DEPARTMENT OF COMMERCE

Foreign-Trade Zones Board

[Order No. 1656]

Approval of Manufacturing Authority; Foreign-Trade Zone 79; Tampa, FL; Tampa Ship, LLC (Shipbuilding)

Pursuant to its authority under the Foreign-Trade Zones Act of June 18, 1934, as amended (19 U.S.C. 81a-81u) (the Act), the Foreign-Trade Zones Board (the Board) adopts the following Order:

Whereas, the City of Tampa (Florida), grantee of FTZ 79, has requested authority under Section 400.28(a)(2) of the Board's regulations on behalf of Tampa Ship, LLC, to construct and repair oceangoing vessels under FTZ procedures within FTZ 79—Site 5, Tampa, Florida (FTZ Docket 1-2009, filed 1-23-2009);

Whereas, the proposed shipbuilding and repair activity would be subject to the “standard shipyard restriction” (full customs duties paid on steel mill products);

Whereas, notice inviting public comment has been given in the Federal Register (74 FR 6012, 2-4-2009);

Whereas, the Board adopts the findings and recommendations of the examiner's report, and finds that the requirements of the FTZ Act and the Board's regulations would be satisfied, and that approval of the application would be in the public interest;

Now, therefore, the Board hereby grants authority for the construction and repair of oceangoing vessels within FTZ 79 for Tampa Ship, LLC, as described in the application and Federal Register notice, subject to the Act and the Board's regulations, including Section 400.28, and the following special conditions:

1. Any foreign steel mill product admitted to FTZ 79 for the Tampa Ship, LLC activity, including plate, angles, shapes, channels, rolled steel stock, bars, pipes and tubes, not incorporated into merchandise otherwise classified, and which is used in manufacturing, shall be subject to customs duties in accordance with applicable law, unless the Executive Secretary determines that the same item is not then being produced by a domestic steel mill.

2. Tampa Ship, LLC shall meet its obligation under 15 CFR § 400.28(a)(3) by annually advising the Board's Executive Secretary as to significant new contracts with appropriate information concerning foreign purchases otherwise dutiable, so that the Board may consider whether any foreign dutiable items are being imported for manufacturing in the zone primarily because of FTZ procedures and whether the Board should consider requiring customs duties to be paid on such items.

3. All foreign-origin safety netting (HTSUS 5608.90) for the Tampa Ship, LLC activity must be admitted to the zone in privileged foreign status (19 CFR 146.41) or domestic (duty-paid) status (19 CFR 146.43).

Signed at Washington, DC, this 18th day of December 2009.
Ronald K. Lorentzen
Deputy Assistant Secretary of Commerce for Import Administration, Alternate Chairman, Foreign-Trade Zones Board.
Andrew McGilvray,
Executive Secretary.

[FR Doc. E9-31022 Filed 12-29-09; 8:45 am]

BILLING CODE 3510-DS-P